DEPARTMENT OF THE INTERIOR

Fish and Wildlife Service

FWS-R1-ES-2021-N202; FXES11130100000-223-FF01E00000]

Endangered and Threatened Wildlife and Plants; Draft Recovery Plan for 50 Hawaiian Archipelago Species

AGENCY: Fish and Wildlife Service, Interior.

ACTION: Notice of availability; request for review and public comment.

SUMMARY: We, the U.S. Fish and Wildlife Service, announce the availability of a draft recovery plan for 50 Hawaiian archipelago species. We request review and comment from the public and local, State, Tribal, and Federal agencies.

DATES: To ensure consideration, comments on the draft recovery plan must be received on or before April 25, 2022. However, we will accept information about any species at any time.

ADDRESSES: Document availability: Obtain the recovery plan by any of the following methods.

• Internet: http://www.fws.gov/endangered/species/recovery-plans.html or http://www.fws.gov/pacific/ecoservices/endangered/recovery/plans.html.

• U.S. mail: Field Supervisor, U.S. Fish and Wildlife Service, Pacific Islands Fish and Wildlife Office, 300 Ala Moana Boulevard, Room 3122, Honolulu, HI 96850.

• Telephone: (808) 792-9400.

Comment submission: You may submit written comments and materials by one of the following methods:

• U.S. mail: Gregory Koob, Deputy Field Supervisor, U.S. Fish and Wildlife Service, Pacific Islands Fish and Wildlife Office, at the above U.S. mail address.

• Fax: 808-792-9581.

• Email: gregory_koob@fws.gov.

FOR FURTHER INFORMATION CONTACT: Gregory Koob, Deputy Field Supervisor, U.S. Fish and Wildlife Service, Pacific Islands Fish and Wildlife Office, at the above U.S. mail address, or via telephone at 808-792-9400. If you use a telecommunications device for the deaf, call the Federal Relay Service at 1-800-877-8339.

SUPPLEMENTARY INFORMATION: We, the U.S. Fish and Wildlife Service (Service), announce the availability of the draft recovery plan for 50 Hawaiian archipelago species. The 50 endangered or threatened species addressed in this draft recovery plan are all endemic to the Hawaiian Islands, and include 35 plants, 13 invertebrates, and 2 birds. The draft recovery plan includes specific goals, objectives, and criteria that should be met to enable us to consider removing any of the species from the Federal List of Endangered and Threatened Wildlife and Plants. We request review and comment on this draft recovery plan from the public and local, State, and Federal agencies.

Background

Recovery of endangered or threatened animals and plants to the point where they are again secure, self-sustaining members of their ecosystems is a primary goal of our endangered species program and the Endangered Species Act (Act; 16 U.S.C. 1531 et seq.) Recovery means improvement of the status of listed species to the point at which listing is no longer appropriate under the criteria set out in section 4(a)(1) of the Act. The Act requires the development of recovery plans for listed species, unless such a plan would not promote the conservation of a particular species.

The objective of a recovery plan is to provide a framework for the recovery of a listed species so that protection under the Act is no longer necessary. A recovery plan includes scientific information about the species and provides criteria and actions necessary for us to be able to reclassify the species or remove it from the Federal List of Endangered and Threatened Wildlife and Plants. Recovery plans help guide our recovery efforts by describing actions we consider necessary for the species' conservation and for estimating time and costs for implementing needed recovery measures.

Species Addressed in Recovery Plan

This draft recovery plan addresses 50 species, as described in the table below.

Scientific name | Common name | Listing rule | Status | Distribution
Plants
Asplenium diellaciniatum | No common name | 81 FR 67786 (September 30, 2016) | Endangered | Kauai.
Calamagrostis expansa | Maui reedgrass | 81 FR 67786 (September 30, 2016) | Endangered | Maui, Hawaii Island (likely extirpated).
Canavalia pubescens | Awikiwiki | 78 FR 32013 (May 28, 2013) | Endangered | Maui, Lanai.
Christella boydiae (listed as Cyclosorus boydiae) | Kupukupu makalii | 81 FR 67786 (September 30, 2016) | Endangered | Oahu, Maui, Hawaii Island (likely extirpated).
Deparia kaalaana | No common name | 81 FR 67786 (September 30, 2016) | Endangered | Kauai (likely extirpated), Maui, Hawaii Island (likely extirpated).
Dryopteris glabra var. pusilla | Hohiu | 81 FR 67786 (September 30, 2016) | Endangered | Kauai.
Exocarpos menziesii | Heau | 81 FR 67786 (September 30, 2016) | Endangered | Lanai (likely extirpated), Hawaii Island.
Festuca hawaiiensis | No common name | 81 FR 67786 (September 30, 2016) | Endangered | Maui (likely extirpated), Hawaii Island.
Gardenia remyi | Nanu | 81 FR 67786 (September 30, 2016) | Endangered | Kauai, Molokai, Maui, Hawaii Island.
Haplostachys haplostachya | Honohono (listed as having no common name) | 44 FR 62468 (October 30, 1979) | Endangered | Hawaii Island.
Huperzia stemmermanniae | No common name | 81 FR 67786 (September 30, 2016) | Endangered | Maui (likely extirpated), Hawaii Island.
Joinvillea ascendens ssp. ascendens | Ohe | 81 FR 67786 (September 30, 2016) | Endangered | Kauai, Oahu, Molokai, Maui, Hawaii Island.
Kadua fluviatilis | Kamapuaa | 81 FR 67786 (September 30, 2016) | Endangered | Kauai, Oahu.
Kadua haupuensis | No common name | 81 FR 67786 (September 30, 2016) | Endangered | Kauai.
Labordia lorenciana | No common name | 81 FR 67786 (September 30, 2016) | Endangered | Kauai.
Lepidium orbiculare | Anaunau | 81 FR 67786 (September 30, 2016) | Endangered | Kauai.
Microlepia strigosa var. mauiensis | Palapalai (listed as having no common name) | 81 FR 67786 (September 30, 2016) | Endangered | Oahu, Maui, Hawaii Island (likely extirpated).
Myrsine fosbergii | Kolea | 81 FR 67786 (September 30, 2016) | Endangered | Kauai, Oahu.
Nothocestrum latifolium | Aiea | 81 FR 67786 (September 30, 2016) | Endangered | Kauai (likely extirpated), Oahu (likely extirpated), Molokai, Maui, Lanai (likely extirpated).
Ochrosia haleakalae | Holei | 81 FR 67786 (September 30, 2016) | Endangered | Maui, Hawaii Island.
Panicum fauriei var. carteri | Carter's panicgrass | 46 FR 9976 (January 30, 1981); 48 FR 46328 (October 12, 1983) | Endangered | Oahu, Molokai, Maui.
Phyllostegia brevidens | No common name | 81 FR 67786 (September 30, 2016) | Endangered | Maui, Hawaii Island.
Phyllostegia helleri | No common name | 81 FR 67786 (September 30, 2016) | Endangered | Kauai.
Phyllostegia stachyoides | No common name | 81 FR 67786 (September 30, 2016) | Endangered | Molokai, Maui, Hawaii Island.
Portulaca villosa | Ihi | 81 FR 67786 (September 30, 2016) | Endangered | Niihau, Oahu (likely extirpated), Molokai, Maui, Lanai (likely extirpated), Kahoolawe (likely extirpated), Hawaii Island.
Pseudognaphalium sandwicensium var. molokaiense | Enaena | 81 FR 67786 (September 30, 2016) | Endangered | Oahu (likely extirpated), Molokai, Maui, Lanai (likely extirpated).
Ranunculus hawaiensis | Makou | 81 FR 67786 (September 30, 2016) | Endangered | Molokai, Maui, Hawaii Island (likely extirpated).
Ranunculus mauiensis | Makou | 81 FR 67786 (September 30, 2016) | Endangered | Kauai, Oahu (likely extirpated), Molokai (likely extirpated), Maui, Hawaii Island.
Sanicula sandwicensis | No common name | 81 FR 67786 (September 30, 2016) | Endangered | Maui, Hawaii Island.
Santalum involutum | Iliahi | 81 FR 67786 (September 30, 2016) | Endangered | Kauai.
Sicyos lanceoloideus | Anunu | 81 FR 67786 (September 30, 2016) | Endangered | Kauai, Oahu.
Sicyos macrophyllus | Anunu | 81 FR 67786 (September 30, 2016) | Endangered | Maui (likely extirpated), Hawaii Island.
Solanum nelsonii | Popolo | 81 FR 67786 (September 30, 2016) | Endangered | Kure, Midway, Pearl and Hermes, Laysan (likely extirpated), Nihoa (likely extirpated), Niihau, Oahu, Molokai, Maui (likely extirpated), Hawaii Island (likely extirpated).
Stenogyne angustifolia (listed as Stenogyne angustifolia var. angustifolia) | No common name | 44 FR 62468 (October 30, 1979) | Endangered | Molokai (likely extirpated), Maui (likely extirpated), Hawaii Island.
Wikstroemia skottsbergiana | Akia | 81 FR 67786 (September 30, 2016) | Endangered | Kauai.
Invertebrates
Drosophila differens | Hawaiian picture-wing fly | 71 FR 26835 (May 9, 2006) | Endangered | Molokai.
Drosophila heteroneura | Hawaiian picture-wing fly | 71 FR 26835 (May 9, 2006) | Endangered | Hawaii Island.
Drosophila mulli | Hawaiian picture-wing fly | 71 FR 26835 (May 9, 2006) | Threatened | Hawaii Island.
Drosophila neoclavisetae | Hawaiian picture-wing fly | 71 FR 26835 (May 9, 2006) | Endangered | Maui (possibly extirpated).
Drosophila ochrobasis | Hawaiian picture-wing fly | 71 FR 26835 (May 9, 2006) | Endangered | Hawaii Island.
Hylaeus anthracinus | Anthracinan yellow-faced bee (listed as Bee, yellow-faced) | 81 FR 67786 (September 30, 2016) | Endangered | Oahu, Molokai, Maui, Lanai (likely extirpated), Kahoolawe, Hawaii Island.
Hylaeus assimulans | Assimulans yellow-faced bee (listed as Bee, yellow-faced) | 81 FR 67786 (September 30, 2016) | Endangered | Oahu (likely extirpated), Maui, Lanai, Kahoolawe.
Hylaeus facilis | Easy yellow-faced bee (listed as Bee, yellow-faced) | 81 FR 67786 (September 30, 2016) | Endangered | Oahu, Molokai, Maui (possibly extirpated), Lanai (likely extirpated).
Hylaeus longiceps | Longiceps yellow-faced bee (listed as Bee, yellow-faced) | 81 FR 67786 (September 30, 2016) | Endangered | Oahu, Molokai, Maui, Lanai.
Megalagrion nesiotes | Flying earwig Hawaiian damselfly | 75 FR 35990 (June 24, 2010) | Endangered | Maui, Hawaii Island (likely extirpated).
Megalagrion pacificum | Pacific Hawaiian damselfly | 75 FR 35990 (June 24, 2010) | Endangered | Kauai (likely extirpated), Oahu (likely extirpated), Molokai (likely extirpated), Lanai (likely extirpated), Maui, Hawaii Island.
Megalagrion xanthomelas | Orangeblack Hawaiian damselfly | 81 FR 67786 (September 30, 2016) | Endangered | Oahu, Molokai, Lanai (extirpated), Maui, Hawaii Island.
Procaris hawaiana | Anchialine pool shrimp | 81 FR 67786 (September 30, 2016) | Endangered | Maui, Hawaii Island.
Birds
Drepanis coccinea | Iiwi (honeycreeper) | 82 FR 43873 (September 20, 2017) | Threatened | Kauai, Oahu (likely extirpated), Molokai (possibly extirpated), Lanai (extirpated), Maui, Hawaii Island.
Hydrobates castro (listed as Oceanodroma castro) | Band-rumped storm-petrel, Hawaii DPS (distinct population segment); also known as akeake | 81 FR 67786 (September 30, 2016) | Endangered | Lehua, Kauai, Oahu (extirpated), Molokai (extirpated), Maui (possibly extirpated), Lanai, Kahoolawe (possibly extirpated), Hawaii Island.

Recovery Planning Process

The Service is now using a process termed recovery planning and implementation (RPI) (see https://www.fws.gov/endangered/esa-library/pdf/RPI.pdf). The RPI approach is intended to reduce the time needed to develop and implement recovery plans, increase recovery plan relevancy over a longer timeframe, and add flexibility to recovery plans so they can be adjusted for new information or circumstances. Under RPI, a recovery plan includes the statutorily required elements under section 4(f) of the Act (objective and measurable recovery criteria, site-specific management actions, and estimates of time and costs), along with a concise introduction and our strategy to achieve species recovery. The RPI recovery plan is supported by two supplementary documents: A species status assessment or species report, which describes the best available scientific information related to the biological needs of the species and assessment of threats; and the recovery implementation strategy, which details the particular near-term activities needed to implement the recovery actions identified in the recovery plan. Under this approach, we can incorporate new information on species biology or details of recovery implementation by updating these supplementary documents, without concurrent revision of the entire recovery plan, unless changes to statutorily required elements are necessary.

Recovery Plan Components

The draft recovery plan for 50 Hawaiian archipelago species is supported by species reports that describe the best available scientific information on species biology, status, and threats for each of the 50 species addressed in the draft recovery plan. These species reports are available within the species profiles for each of the species at https://ecos.fws.gov. We are in the process of coordinating with conservation partners at the State of Hawaii's Department of Land and Natural Resources, Division of Forestry and Wildlife; the Counties of Kauai, Honolulu, Maui, and Hawaii; interagency Plant Extinction Prevention Program; research institutions; watershed partnerships; public and private stakeholders; and national parks to identify the highest-priority actions for recovery of these species that will be part of a recovery implementation strategy.

Major threats to the various Hawaiian archipelago species addressed in this draft recovery plan include habitat degradation, predation and herbivory by nonnative mammals and invertebrates; disease spread by nonnative species; and competition with invasive nonnative plant species. Achieving recovery for the 50 species will require assessments of populations and their habitats; selection of sites for long-term conservation; control of threats; development of regulatory protections; species-specific research; and translocation of species in order to maximize resiliency, redundancy, and representation. A detailed recovery strategy for each species group or species is presented in the main body of the recovery plan.

Request for Public Comments

Section 4(f) of the Act requires us to provide public notice and an opportunity for public review and comment during recovery plan development. By policy we also request peer review of recovery plans (59 FR 34270; July 1, 1994). In an appendix to the approved final recovery plan, we will summarize and respond to the issues raised during public comment and peer review. Substantive comments may or may not result in changes to the recovery plan. Comments regarding recovery plan implementation will be forwarded as appropriate to Federal or other entities so that they can be taken into account during the course of implementing recovery actions.

We will consider all comments we receive by the date specified in DATES prior to final approval of the plan.

Public Availability of Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act of 1973, as amended (16 U.S.C. 1531 et seq.).

Robyn Thorson,
Regional Director, U.S. Fish and Wildlife Service.

[FR Doc. 2022-03614 Filed 2-23-22; 8:45 am]

BILLING CODE 4333-15-P